DEPARTMENT OF ENERGY

10 CFR Part 430

[EERE-2022-BT-STD-0025]

RIN 1904-AF36

Energy Conservation Program: Energy Conservation Standards for Portable Electric Spas

AGENCY: Office of Energy Efficiency and Renewable Energy, Department of Energy.

ACTION: Notice of data availability.

SUMMARY: The U.S. Department of Energy (“DOE”) is publishing this notice of data availability (“NODA”) regarding certain data and analytical results being made available related to DOE's evaluation of potential energy conservation standards for portable electric spas (“PESs”).

DATES: Written comments and information will be accepted on or before, February 18, 2025.

ADDRESSES: Interested persons are encouraged to submit comments using the Federal eRulemaking Portal at www.regulations.gov, under docket number EERE-2022-BT-STD-0025. Follow the instructions for submitting comments. Alternatively, interested persons may submit comments, identified by docket number EERE-2022-BT-STD-0025, by any of the following methods:

Email: PortableElecSpas2022STD0025@ee.doe.gov. Include the docket number EERE-2022-BT-STD-0025 in the subject line of the message.

Postal Mail: Appliance and Equipment Standards Program, U.S. Department of Energy, Building Technologies Office, Mailstop EE-5B, 1000 Independence Avenue SW, Washington, DC 20585-0121. Telephone: (202) 287-1445. If possible, please submit all items on a compact disc (“CD”), in which case it is not necessary to include printed copies.

Hand Delivery/Courier: Appliance and Equipment Standards Program, U.S. Department of Energy, Building Technologies Office, 950 L'Enfant Plaza SW, 6th Floor, Washington, DC 20024. Telephone: (202) 287-1445. If possible, please submit all items on a CD, in which case it is not necessary to include printed copies.

No telefacsimiles (“faxes”) will be accepted. For detailed instructions on submitting comments and additional information on this process, see section IV of this document.

Docket: The docket for this activity, which includes Federal Register notices, comments, and other supporting documents/materials, including the data and analytical results being released with this notice, is available for review at www.regulations.gov. The data and analytical results being made available with this NODA is available on the docket and consist of: (1) a report titled NODA Support Document, and (2) accompanying spreadsheet-based analytical tools respectively corresponding to the Life-Cycle Cost and Payback Period Analysis, the National Impact Analysis, and the Manufacturer Impact Analysis. All documents in the docket are listed in the www.regulations.gov index. However, some documents listed in the index, such as those containing information that is exempt from public disclosure, may not be publicly available. The docket web page can be found at www.regulations.gov/docket/EERE-2022-BT-STD-0025. The docket web page contains instructions on how to access all documents, including public comments, in the docket.

FOR FURTHER INFORMATION CONTACT:

Dr. Carl Shapiro, U.S. Department of Energy, Office of Energy Efficiency and Renewable Energy, Building Technologies Office, EE-5B, 1000 Independence Avenue SW, Washington, DC 20585-0121. Telephone: (202) 287-5649. Email: ApplianceStandardsQuestions@ee.doe.gov.

Ms. Kristin Koernig, U.S. Department of Energy, Office of the General Counsel, GC-33, 1000 Independence Avenue SW, Washington, DC 20585-0121. Telephone: (202) 586-4798. Email: Kristin.koernig@hq.doe.gov.

For further information on how to submit a comment, review other public comments and the docket, or participate in the public meeting, contact the Appliance and Equipment Standards Program staff at (202) 287-1445 or by email: ApplianceStandardsQuestions@ee.doe.gov.

SUPPLEMENTARY INFORMATION: EPCA authorizes DOE to regulate the energy efficiency of a number of consumer products and certain industrial equipment. (42 U.S.C. 6291-6317) Title III, Part B of EPCA established the Energy Conservation Program for Consumer Products Other Than Automobiles, which sets forth a variety of provisions designed to improve energy efficiency for certain consumer products, referred to generally as “covered products.” In addition to specifying a list of consumer products that are covered products, EPCA contains provisions that enable the Secretary of Energy to classify additional types of consumer products as covered products. (42 U.S.C. 6292(b)).

On September 2, 2022, in a final determination published in the Federal Register (“September 2022 NOFD”), DOE determined that PESs meet the criteria for classification as a covered product pursuant to EPCA and classified PESs as a covered product. 87 FR 54123. In the September 2022 NOFD, DOE established a definition of “portable electric spa,” which was “a factory-built electric spa or hot tub, supplied with equipment for heating and circulating water at the time of sale or sold separately for subsequent attachment.” Id. at 87 FR 54125; see also 10 CFR 430.2.

Following this determination of coverage, DOE published a test procedure (“TP”) final rule for PESs in the Federal Register on June 13, 2023 (“June 2023 TP Final Rule”). 88 FR 38600. In the June 2023 TP Final Rule, DOE incorporated by reference an industry test method published by the Pool and Hot Tub Alliance (“PHTA”) ¹ in partnership with the International Code Council (“ICC”) and approved by the American National Standards Institute (“ANSI”), ANSI/APSP/ICC-14 2019, American National Standard for Portable Electric Spa Energy Efficiency (“APSP-14 2019”) with certain exceptions and additions. 88 FR 38600, 38607-38619. The June 2023 TP Final Rule finalized a measure of the energy consumption of PESs (i.e., the normalized average standby loss) that represents the average power consumed by the spa, normalized to a standard temperature difference between the ambient air and the water in the spa, while the cover is on and the product is operating in its default operation mode. Id. at 88 FR 38600. The DOE test procedure for PESs appears at title 10 of the Code of Federal Regulations (“CFR”) part 430, subpart B, appendix GG (“appendix GG”).

¹ The PHTA is a result of a 2019 merger between the Association of Pool and Spa Professionals (“APSP”) and the National Swimming Pool Foundation (“NSPF”). The reference to APSP has been retained in the ANSI designation of ANSI/APSP/ICC-14 2019.

In a NODA published on November 17, 2022 (“November 2022 NODA”), DOE published data and certain preliminary analytical results related to DOE's evaluation of potential energy conservation standards for PESs. 87 FR 69082.

DOE has considered comments received to date as part of the September 2022 NOFD, November 2022 NODA, and June 2023 TP Final Rule and has performed an updated evaluation of potential energy conservation standards informed by some of those comments, the results of which are presented and discussed in a support document accompanying this NODA (“NODA Support Document”). The NODA Support Document is a composite of various analyses, including results and their methodological descriptions, related to evaluating potential energy conservation standards for portable electric spas from several perspectives. Those analyses respectively focus on specific considerations of that evaluation. For example, the Life-Cycle Cost and Payback Period Analysis quantifies the economic effects of various potential standard levels on individual consumers, while the Manufacturer Impact Analysis quantifies the effects of potential energy conservation standards on the finances and profitability of manufacturers of portable electric spas. Collectively, these analysis of the NODA Support Document form a comprehensive basis for consideration of various potential energy conservation standard levels. A list of topics included in the NODA Support Document can be found in chapter 1 of the NODA Support Document.

Public Participation

DOE will accept comments, data, and information regarding this NODA no later than the date provided in the DATES section at the beginning of this NODA. Interested parties may submit comments, data, and other information using any of the methods described in the ADDRESSES section at the beginning of this document.

Submitting comments via www.regulations.gov. The www.regulations.gov web page will require you to provide your name and contact information. Your contact information will be viewable to DOE Building Technologies staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment itself or in any documents attached to your comment. Any information that you do not want to be publicly viewable should not be included in your comment, nor in any document attached to your comment. Otherwise, persons viewing comments will see only first and last names, organization names, correspondence containing comments, and any documents submitted with the comments.

Do not submit to www.regulations.gov information for which disclosure is restricted by statute, such as trade secrets and commercial or financial information (hereinafter referred to as Confidential Business Information (“CBI”)). Comments submitted through www.regulations.gov cannot be claimed as CBI. Comments received through the website will waive any CBI claims for the information submitted. For information on submitting CBI, see the Confidential Business Information section.

DOE processes submissions made through www.regulations.gov before posting. Normally, comments will be posted within a few days of being submitted. However, if large volumes of comments are being processed simultaneously, your comment may not be viewable for up to several weeks. Please keep the comment tracking number that www.regulations.gov provides after you have successfully uploaded your comment.

Submitting comments via email, hand delivery/courier, or postal mail. Comments and documents submitted via email, hand delivery/courier, or postal mail also will be posted to www.regulations.gov. If you do not want your personal contact information to be publicly viewable, do not include it in your comment or any accompanying documents. Instead, provide your contact information in a cover letter. Include your first and last names, email address, telephone number, and optional mailing address. The cover letter will not be publicly viewable as long as it does not include any comments.

Include contact information each time you submit comments, data, documents, and other information to DOE. If you submit via postal mail or hand delivery/courier, please provide all items on a CD, if feasible, in which case it is not necessary to submit printed copies. No telefacsimiles (“faxes”) will be accepted.

Comments, data, and other information submitted to DOE electronically should be provided in PDF (preferred), Microsoft Word or Excel, WordPerfect, or text (ASCII) file format. Provide documents that are not secured, that are written in English, and that are free of any defects or viruses. Documents should not contain special characters or any form of encryption and, if possible, they should carry the electronic signature of the author.

Campaign form letters. Please submit campaign form letters by the originating organization in batches of between 50 to 500 form letters per PDF or as one form letter with a list of supporters' names compiled into one or more PDFs. This reduces comment processing and posting time.

Confidential Business Information. Pursuant to 10 CFR 1004.11, any person submitting information that he or she believes to be confidential and exempt by law from public disclosure should submit via email two well-marked copies: one copy of the document marked “confidential” including all the information believed to be confidential, and one copy of the document marked “non-confidential” with the information believed to be confidential deleted. DOE will make its own determination about the confidential status of the information and treat it according to its determination.

It is DOE's policy that all comments may be included in the public docket, without change and as received, including any personal information provided in the comments (except information deemed to be exempt from public disclosure).

Signing Authority

This document of the Department of Energy was signed on January 10, 2025, by Jeffrey Marootian, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 10, 2025.
Treena V. Garrett,
Federal Register Liaison Officer, U.S. Department of Energy.

[FR Doc. 2025-00816 Filed 1-15-25; 8:45 am]

BILLING CODE 6450-01-P